DEPARTMENT OF THE INTERIOR

Bureau of Land Management

[OR-030-1020-PG; G 02-0348]

Meeting Notice for the Southeast Oregon Resource Advisory Council

AGENCY: Bureau of Land Management (BLM), Vale District, Interior.

SUMMARY: The Southeast Oregon Resource Advisory Council (SEORAC) will meet in the conference room at the Comfort Inn, 504 N. Highway 20, Hines, OR 97641, 541-573-3370 from 8 a.m. to 5 p.m., Pacific Time (PT), on Friday, October 18, 2002.

The meeting topics that may be discussed by the Council may include a discussion of issues within southeast Oregon related to Steens Mountain Resource Advisory Council, North Lake Recreation Plan, Burns Steens/Andrews Resource Management Plan, Birch Creek Management Plan, Wildland Fire Board, OHV, Rangeland Assessment, Federal officials' updates, and other matters as may reasonably come before the Council. The entire meeting is open to the public. Information to be distributed to the Council members is requested in written format 10 days prior to the start of the Council meeting. Public comment is scheduled for 11:15 a.m. to 11:45 a.m., Pacific Time on Friday, October 18, 2002.

FOR FURTHER INFORMATION CONTACT: Additional information concerning the SEORAC may be obtained from Peggy Diegan, Management Assistant/Webmaster, Vale District Office, 100 Oregon Street, Vale, OR 97918 (541) 473-3144, or Peggy_Diegan@or.blm.gov and/or from the following web site: <http://www.or.blm.gov/SEOR-RAC>.

Dated: August 12, 2002.
David R. Henderson,
District Manager.

[FR Doc. 02-20935 Filed 8-16-02; 8:45 am]

BILLING CODE 4310-33-M